OFFICE OF THE UNITED STATES TRADE REPRESENTATIVE

[Docket Number USTR-2025-0307]

Request for Comments Concerning the Operation of the United States-Mexico-Canada Agreement With Respect To Trade in Automotive Goods

AGENCY: Office of the United States Trade Representative (USTR).

ACTION: Request for comments.

SUMMARY: The U.S. Trade Representative must conduct a review of trade in automotive goods under the United States-Mexico-Canada Agreement (USMCA) and submit a report to the Committee on Finance of the Senate and the Committee on Ways and Means of the House of Representatives no later than July 1, 2026. USTR invites comments concerning the operation of the USMCA with respect to automotive goods, including the implementation and enforcement of the USMCA rules of origin for automotive goods, as well as whether the automotive provisions of the USMCA are effective in light of technological and production advances.

DATES: January 7, 2026 at 11:59pm EST: Deadline for submission of written comments.

ADDRESSES: USTR strongly prefers electronic submissions made through the online USTR portal: https://comments.ustr.gov/s/. Follow the instructions for submitting written comments in Parts III and IV below, using docket number USTR-2025-0307.

FOR FURTHER INFORMATION CONTACT: Justin Hoffmann, Deputy Assistant U.S. Trade Representative for Market Access and Industrial Competitiveness at (202) 395-2990 or Justin.D.Hoffmann@ustr.eop.gov.

SUPPLEMENTARY INFORMATION:

I. USMCA Background

On January 29, 2020, the President signed into law the USMCA Implementation Act (Pub. L. 116-113), which implements the USMCA between the United States, the United Mexican States, and Canada attached as an Annex to the Protocol Replacing the North American Free Trade Agreement. The USMCA entered into force on July 1, 2020.

The USMCA includes new rules of origin to claim preferential treatment for automotive goods, including higher Regional Value Content (RVC) thresholds, mandatory requirements to produce core parts in the region, mandatory steel and aluminum purchasing requirements, and a Labor Value Content (LVC) requirement. The USMCA allows vehicle producers to request an alternative staging regime for these requirements that would permit a longer period of transition to help ensure that future production is able to meet the new rules. The standard staging regime is specified under the Automotive Appendix to Chapter 4 of the USMCA, with the exception of Article 8, which specifies provisions relating to the alternative staging regime.

The USMCA Implementation Act and Executive Order 13908 established the Interagency Committee on Trade in Automotive Goods (Committee) to advise the President and the U.S. Trade Representative on the implementation, enforcement and modification of the USMCA provisions related to automotive goods. In addition, the Committee reviews the operation of the USMCA with respect to trade in automotive goods, including the economic effects of the USMCA automotive rules of origin on the U.S. economy, workers and consumers, and the impact of new technology on such rules.

II. Report to Congress

Section 202A(g) of the USMCA Implementation Act requires the U.S. Trade Representative, in consultation with the Committee, to conduct a biennial review of the operation of the USMCA with respect to trade in automotive goods, including:

(a) To the extent practicable, a summary of actions taken by producers to demonstrate compliance with the automotive rules of origin, use of the alternative staging regime, enforcement of such rules of origin, and other relevant matters.

(b) Whether the automotive rules of origin are effective and relevant in light of new technology and changes in content, production processes and character of automotive goods.

USTR submitted its first and second reports to Congress on June 30, 2022 and July 1, 2024. No later than July 1, 2026, USTR will submit the results of the third biennial review to the Committee on Finance of the Senate and the Committee on Ways and Means of the House of Representatives and post a public version of the report to its website at https://www.ustr.gov. The 2022 and 2024 reports are available on USTR's website at https://ustr.gov/trade-agreements/free-trade-agreements/united-states-mexico-canada-agreement/biennial-reports-congress-operation-united-states-mexico-canada-agreement-usmca-respect-trade.

III. Request for Public Input

In accordance with the USMCA Implementation Act, USTR and the Committee seek views from producers of automotive goods, labor organizations and other interested parties regarding:

1. The overall operation of the USMCA with respect to automotive goods.

2. Actions taken by automotive and parts producers to demonstrate compliance with the USMCA automotive rules of origin, including:

a. The applicable RVC requirements for passenger vehicles, light trucks, heavy trucks, other vehicles, and parts thereof.

b. The North American steel and aluminum purchase requirements.

c. The LVC requirements.

3. The use of alternative staging regimes by vehicle producers to meet the USMCA automotive rules of origin.

4. Enforcement of the USMCA automotive rules of origin, including the alternative staging regimes and the automotive certification process for steel and aluminum content, LVC, and RVC.

5. Whether the current USMCA automotive rules of origin are effective and relevant in light of new technology and changes in the content, production processes, and character of automotive goods.

6. Any other topics relevant to the trade in automotive goods under the USMCA.¹

¹ With respect to any input recently provided to USTR in response to the September 17, 2025, Request for Public Comments and Notice of Public Hearing Relating to the Operation of the Agreement Between the United States of America, the United Mexican States, and Canada (90 FR 44869, September 17, 2025, Docket Number USTR-2025-0004), that you wish USTR and the Committee to consider for purposes of this report, please provide the relevant submission ID number along with any cross-references to that input.

V. Procedures for Written Submissions

To be assured of consideration, submit written comments using the appropriate docket (USTR-2025-0307) on the portal at https://comments.ustr.gov/s/ and as detailed in Part III. All submissions must be in English. You do not need to establish an account to submit comments. The first screen allows you to enter identification and contact information. Third party organizations such as law firms, trade associations, or customs brokers should identify the full legal name of the organization they represent and identify the primary point of contact for the submission. USTR may not consider a comment if insufficient information is provided.

You may upload documents and indicate whether USTR should treat the documents as business confidential or public information. Any page containing business confidential information (BCI) must be clearly marked “BUSINESS CONFIDENTIAL” on the top of that page and the submission should clearly indicate, via brackets, highlighting, or other means, the specific information that is BCI. If requesting confidential treatment, you must certify in writing that the information would not customarily be released to the public. Interested persons uploading attachments containing BCI also must submit a public version of their comments.

Sushan Demirjian,
Assistant U.S. Trade Representative for Small Business, Market Access, and Industrial Competitiveness, Office of the United States Trade Representative.

[FR Doc. 2025-22105 Filed 12-4-25; 8:45 am]

BILLING CODE 3390-F4-P